DEPARTMENT OF THE INTERIOR

Fish and Wildlife Service

[FWS-R4-ES-2018-N125; FXES11130400000C2-189-FF04E00000]

Endangered and Threatened Wildlife and Plants; Draft Recovery Plan for Short's Bladderpod

AGENCY: Fish and Wildlife Service, Interior.

ACTION: Notice of availability and request for public comment.

SUMMARY: We, the U.S. Fish and Wildlife Service (Service), announce the availability of the draft recovery plan for the endangered Short's bladderpod. The draft recovery plan includes specific recovery objectives and criteria that must be met in order for us to recover and ultimately delist the species under the Endangered Species Act of 1973, as amended. We request review and comment on this draft recovery plan from local, State, and Federal agencies and the public.

DATES: In order to be considered, comments on the draft recovery plan must be received on or before September 16, 2019.

ADDRESSES:

Reviewing documents: If you wish to review this draft recovery plan, you may obtain a copy by contacting Geoff Call, U.S. Fish and Wildlife Service, Tennessee Ecological Services Field Office, 446 Neal Street, Cookeville, Tennessee 38506, tel. 931-525-4983; or by visiting the Service's Tennessee Field Office website at http://www.fws.gov/cookeville.

Submitting comments: If you wish to comment, you may submit your comments by one of the following methods:

1. You may submit written comments and materials to us, at the above address.

2. You may hand-deliver written comments to our Tennessee Field Office, at the above address, or fax them to 931-528-7075.

3. You may send comments by email to geoff_call@fws.gov. Please include “Short's bladderpod Draft Recovery Plan Comments” on the subject line.

For additional information about submitting comments, see Request for Public Comments below.

FOR FURTHER INFORMATION CONTACT: Geoff Call (see ADDRESSES).

SUPPLEMENTARY INFORMATION:

Background

Short's bladderpod (Physaria globosa) is an upright biennial or perennial plant with several stems, some branched at the base, reaching heights up to 50 centimeters (cm) (20 inches (in.)). The species is restricted to 31 extant occurrences distributed among 4 sections of the Interior Low Plateaus physiographic province: 1 in the Shawnee Hills section (Indiana), 11 occurrences in the Bluegrass (Kentucky), 14 in the Highland Rim, and 5 in the Nashville Basin (both Tennessee). Short's bladderpod typically grows on steep, rocky, wooded slopes and talus (sloping mass of rock fragments below a bluff or ledge) areas. It also occurs along tops, bases, and ledges of bluffs and infrequently on sites with little topographic relief. The species usually is found in these habitats on south- to west-facing slopes near rivers or streams. Most populations are closely associated with calcareous outcrops.

The Endangered Species Act (16 U.S.C. 1531 et seq.) states that a species may be listed as endangered or threatened based on one or more of five factors. The greatest threat to Short's bladderpod is loss or degradation of habitat (Listing Factor A). The main causes of habitat degradation or loss include future construction and ongoing maintenance of transportation and utility rights-of way; prolonged inundation and soil erosion due to flooding and water level manipulation; overstory shading due to forest succession; and competition from invasive plant species. Additionally, the species' resilience to these threats and environmental variation is diminished due to the small sizes of many populations (Factor E). We determined that other existing regulatory mechanisms were inadequate to reduce these threats (Listing Factor D). As a result of these threats, Short's bladderpod was listed as endangered under the Act on August 1, 2014 (79 FR 44712). Approximately 373 hectares (ha) (925.5 acres (ac)), distributed among 20 units in Posey County, Indiana; Clark, Franklin, and Woodford Counties, Kentucky; and Cheatham, Davidson, Dickson, Jackson, Montgomery, Smith, and Trousdale Counties, Tennessee, were designated as critical habitat on August 26, 2014 (79 FR 50990).

Recovery Plan

Section 4(f) of the Act requires the development of recovery plans for listed species, unless such a plan would not promote the conservation of a particular species. Recovery plans describe actions considered necessary for conservation of the species, establish recovery criteria, and estimate time and cost for implementing recovery measures. Section 4(f) of the Act also requires us to provide public notice and an opportunity for public review and comment during recovery plan development. We will consider all information presented during a public comment period prior to approval of each new or revised recovery plan. We and other Federal agencies will take these comments into account in the course of implementing approved recovery plans.

The draft recovery plan describes actions necessary for the recovery of Short's bladderpod, establishes criteria for its delisting, and estimates the time and cost for implementing specific measures needed to recover the species. The ultimate goal of this draft recovery plan is to ensure the long-term viability of the Short's bladderpod in the wild to the point that it can be removed from the Federal List of Endangered and Threatened Plants in title 50 of the Code of Federal Regulations (50 CFR 17.12).

Recovery Criteria

The Short's bladderpod will be considered for delisting when:

(1) Agreements have been reached with key stakeholders to conserve, restore, and manage habitat to provide ecological conditions, as described in the Species Status Assessment for Short's bladderpod (SSA), that promote growth of individuals and support resilient populations. (Addresses Listing Factor A.)

(2) Monitoring demonstrates stable or increasing population growth rates or an average population size for at least 25 populations that is equal to or above the minimum viable size. Populations are protected by a conservation mechanism. A minimum of 6 of these populations must be located in the Kentucky River watershed and 15 populations in the Cumberland River watershed, in addition to the population in the Wabash River watershed, in order to ensure adequate regional representation and intra-regional redundancy of resilient populations. (Addresses Listing Factors A and E.)

(3) In lieu of satisfying criteria 1 and 2, the species could be considered for delisting if 50 resilient occurrences (as described in the SSA) are distributed among the physiographic regions where the species occurs. (Addresses Factor A and E.)

Request for Public Comments

We request written comments on the draft recovery plan. We will consider all comments we receive by the date specified in DATES prior to final approval of the plan.

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533(f).

Dated: October 15, 2018.
Mike Oetker,
Acting Regional Director, Southeast Region.

Editorial Note: This document was received for publication by the Office of the Federal Register on July 11, 2019.

[FR Doc. 2019-15043 Filed 7-15-19; 8:45 am]

BILLING CODE 4333-15-P